DEPARTMENT OF JUSTICE

Notice of Lodging of Proposed Consent Decree Under the Comprehensive Environmental Response, Compensation, and Liability Act

On December 5, 2023, the Department of Justice lodged a proposed Consent Decree with the United States District Court for the Central District of Illinois in the lawsuit entitled United States et al. v. TCI Pacific Communications LLC, Case No. 23-4218.

The proposed Consent Decree settles claims brought by the United States under Sections 106 and 107 of the Comprehensive Environmental Response, Compensation, and Liability Act (“CERCLA”), 42 U.S.C. 9606 and 9607 against TCI Pacific Communications LLC (“Defendant”) seeking reimbursement of response costs and performance of remedial measures with respect to Operable Unit 4 (“OU4”) of the DePue/New Jersey Zinc/Mobil Chemical Corp. Superfund Site in DePue, Illinois. The Consent Decree would also resolve claims brought by the State of Illinois under CERCLA, 42 U.S.C. 9607 and the Illinois Environmental Protection Act, 415 ILCS 5/22.2 and 5/42 (d) and (e), for performance of a remedial action and recovery of the State's unreimbursed costs incurred at or in connection with OU4 at the Site. The Consent Decree requires Defendants to pay the United States a total of $368,831.16 in EPA's response costs and perform the remedial “Work” defined in the Scope of Work, attached to the Consent Decree as Appendix B. The Work consists of excavation of contaminated soil and Site-related material from residences, parks, and alleys, backfilling with clean soil, revegetation, and stockpiling and management of the excavated fill in the Former Plant Site Area of OU3.

The publication of this notice opens a period for public comment on the proposed Consent Decree. Comments should be addressed to the Assistant Attorney General, Environment and Natural Resources Division, and should refer to United States et al. v. TCI Pacific Communications LLC, DJ No. 90-11-3-11937/1. All comments must be submitted no later than thirty (30) days after the publication date of this notice. Commenters may request an opportunity for a public meeting in the affected area in accordance with section 7003(d) of RCRA, 42 U.S.C. 6973(d). Comments may be submitted either by email or by mail:

To submit comments: | Send them to:
By email | pubcomment-ees.enrd@usdoj.gov.
By mail | Assistant Attorney General, U.S. DOJ—ENRD, P.O. Box 7611, Washington, DC 20044-7611.

During the public comment period, the proposed Consent Decree may be examined and downloaded at this Justice Department website: https://www.justice.gov/enrd/consent-decrees.

We will provide a paper copy of the proposed Consent Decree upon written request and payment of reproduction costs. Please mail your request and payment to: Consent Decree Library, U.S. DOJ—ENRD, P.O. Box 7611, Washington, DC 20044-7611.

For a copy of the Consent Decree, please enclose a check or money order for $61 (244 pages at 25 cents per page reproduction cost) payable to the United States Treasury.

Patricia McKenna,
Assistant Section Chief, Environmental Enforcement Section, Environment and Natural Resources Division.

[FR Doc. 2023-27269 Filed 12-12-23; 8:45 am]

BILLING CODE 4410-15-P